DEPARTMENT OF ENERGY

Federal Energy Regulatory Commission

[Project No. 10934-027]

William B. Ruger, Jr.; Notice of Intent To File License Application, Filing of Pre-Application Document, and Approving Use of the Traditional Licensing Process

a. Type of Filing: Notice of Intent To File License Application and Request To Use the Traditional Licensing Process.

b. Project No.: 10934-027.

c. Date Filed: May 23, 2016.

d. Submitted By: William B. Ruger, Jr.

e. Name of Project: Sugar River II Hydroelectric Project.

f. Location: On the Sugar River, in Sullivan County, New Hampshire. No federal lands are occupied by the project works or located within the project boundary.

g. Filed Pursuant to: 18 CFR 5.3 of the Commission's regulations.

h. Potential Applicant Contact: Paul Nolan, 5515 North 17th Street, Arlington, VA 22205; (703) 534-5509; email—pvnpvndiver@gmail.com.

i. FERC Contact: Steve Kartalia at (202 502-6131; or email at Stephen.kartalia@ferc.gov.

j. Mr. Ruger filed his request to use the Traditional Licensing Process on May 23, 2016. Mr. Ruger provided public notice of this request, along with a Pre-Application Document (PAD), on August 15, 2016. In a letter issued on October 6, 2016, the Director of the Division of Hydropower Licensing approved Mr. Ruger's request to use the Traditional Licensing Process.

k. With this notice, we are initiating informal consultation with the U.S. Fish and Wildlife Service and NOAA Fisheries under section 7 of the Endangered Species Act and the joint agency regulations thereunder at 50 CFR, part 402; and NOAA Fisheries under section 305(b) of the Magnuson-Stevens Fishery Conservation and Management Act and implementing regulations at 50 CFR 600.920. We are also initiating consultation with the New Hampshire State Historic Preservation Officer, as required by section 106, National Historic Preservation Act, and the implementing regulations of the Advisory Council on Historic Preservation at 36 CFR 800.2.

l. Mr. Ruger filed a PAD, including a proposed process plan and schedule, with the Commission, pursuant to 18 CFR 5.6 of the Commission's regulations.

m. A copy of the PAD is available for review at the Commission in the Public Reference Room or may be viewed on the Commission's Web site (http://www.ferc.gov), using the “eLibrary” link. Enter the docket number, excluding the last three digits in the docket number field to access the document. For assistance, contact FERC Online Support at FERCOnlineSupport@ferc.gov, (866) 208-3676 (toll free), or (202) 502-8659 (TTY). A copy is also available for inspection and reproduction at the licensee's office located at 169 Sunapee Street, Newport, NH 03773. Call (603) 863-6332 to make an appointment.

n. The licensee states his unequivocal intent to submit an application for a subsequent license for Project No. 10934. Pursuant to 18 CFR 16.8, 16.9, and 16.10 each application for a subsequent license and any competing license applications must be filed with the Commission at least 24 months prior to the expiration of the existing license. All applications for license for this project must be filed by April 30, 2019.

o. Register online at http://www.ferc.gov/docs-filing/esubscription.asp to be notified via email of new filing and issuances related to this or other pending projects. For assistance, contact FERC Online Support.

Dated: October 7, 2016.
Kimberly D. Bose,
Secretary.

[FR Doc. 2016-24884 Filed 10-13-16; 8:45 am]

BILLING CODE 6717-01-P